DEPARTMENT OF ENERGY

Federal Energy Regulatory Commission

Combined Notice of Filings #1

Take notice that the Commission received the following electric rate filings:

Docket Numbers: ER10-2794-004; ER10-2849-003; ER11-2028-004.

Applicants: EDF Trading North America, LLC, EDF Industrial Power Services (IL), LLC, EDF Industrial Power Services (NY), LLC.

Description: Revised Pivotal Supplier Screen of EDF Trading North America, LLC, EDF Industrial Power Services (NY), LLC and EDF Industrial Power Services (IL), LLC.

Filed Date: 8/20/12.

Accession Number: 20120820-5043.

Comments Due: 5 p.m. ET 10/24/12.

Docket Numbers: ER12-1007-001.

Applicants: AP Gas & Electric (NY), LLC.

Description: Notification of Non-Material Change-in-Status of AP Gas & Electric (NY), LLC.

Filed Date: 10/3/12.

Accession Number: 20121003-5042.

Comments Due: 5 p.m. ET 10/24/12.

Docket Numbers: ER12-1626-000.

Applicants: Topaz Solar Farms LLC.

Description: Topaz Solar Farms LLC submits Request for Waiver to File an Updated Market Power Analysis for the Central Region.

Filed Date: 10/2/12.

Accession Number: 20121002-5186.

Comments Due: 5 p.m. ET 10/23/12.

Docket Numbers: ER12-2588-001.

Applicants: Hess Small Business Services LLC.

Description: Amendment to September 6, 2012 Filing to be effective 11/5/2012.

Filed Date: 10/2/12.

Accession Number: 20121002-5114.

Comments Due: 5 p.m. ET 10/23/12.

Docket Numbers: ER12-2709-000.

Applicants: Pacific Gas and Electric Company.

Description: Pacific Gas and Electric Company submits Order No. 1000 Compliance Filing.

Filed Date: 9/27/12.

Accession Number: 20120927-5210.

Comments Due: 5 p.m. ET 10/18/12.

Docket Numbers: ER13-11-000.

Applicants: Sierra Pacific Power Company.

Description: Rate Schedule No. 55—Amended and Restated PPA—CalPeco to be effective 12/1/2012.

Filed Date: 10/2/12.

Accession Number: 20121002-5145.

Comments Due: 5 p.m. ET 10/23/12.

Docket Numbers: ER13-12-000.

Applicants: Midwest Independent Transmission System.

Description: 10-2-12 ATCLLC Attachment MM to be effective 12/1/2012.

Filed Date: 10/2/12.

Accession Number: 20121002-5165.

Comments Due: 5 p.m. ET 10/23/12.

Docket Numbers: ER13-13-000.

Applicants: NV Energy, Inc.

Description: Service Agreement No. 11-00052 Amended and Restated LGIA—Patua Project LLC to be effective 9/11/2012.

Filed Date: 10/2/12.

Accession Number: 20121002-5170.

Comments Due: 5 p.m. ET 10/23/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2012.
Nathaniel J. Davis, Sr.,
Deputy Secretary.

[FR Doc. 2012-25274 Filed 10-12-12; 8:45 am]

BILLING CODE 6717-01-P